DEPARTMENT OF TRANSPORTATION

Federal Aviation Administration

14 CFR Part 39

[Docket No. FAA-2005-21935; Directorate Identifier 2005-CE-37-AD]

RIN 2120-AA64

Airworthiness Directives; Pacific Aerospace Corporation Ltd. Model 750XL Airplanes

AGENCY: Federal Aviation Administration (FAA), DOT.

ACTION: Notice of proposed rulemaking (NPRM).

SUMMARY: The FAA proposes to adopt a new airworthiness directive (AD) for certain Pacific Aerospace Corporation Ltd Model 750XL airplanes. This proposed AD would require you to inspect the condition of the left and right outer panel attachment lugs for damage (scoring and gouging) and/or cracks (using a fluorescent penetrant inspection procedure for the crack inspection); to inspect the spacing of left and right outer panel attachment lugs; to replace the lugs if damage is found; and to make necessary corrections to the spacing. This proposed AD results from mandatory continuing airworthiness information (MCAI) issued by the airworthiness authority for New Zealand. We are issuing this proposed AD to prevent structural failure of the outer panel and spar due to cracked, bent, or distorted condition of the left and right outer panel attachment lugs; and incorrect spacing of the left and right outer panel attachment lugs. This failure could lead to loss of control of the airplane.

DATES: We must receive any comments on this proposed AD by October 5, 2005.

ADDRESSES: Use one of the following to submit comments on this proposed AD:

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Pacific Aerospace Corporation Ltd., Hamilton Airport, Private Bag HN 3027, Hamilton, New Zealand; telephone: (64) 7-843-6144; facsimile: (64) 7-843-6134.

To view the comments to this proposed AD, go to http://dms.dot.gov. This is docket number FAA-2005-21935; Directorate Identifier 2005-CE-37-AD.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I comment on this proposed AD? We invite you to submit any written relevant data, views, or arguments regarding this proposal. Send your comments to an address listed under ADDRESSES. Include the docket number, “FAA-2005-21935; Directorate Identifier 2005-CE-37-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21935; Directorate Identifier 2005-CE-37-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Civil Aviation Authority (CAA), which is the airworthiness authority for New Zealand, recently notified FAA that an unsafe condition may exist on certain Pacific Aerospace Corporation Ltd Model 750XL airplanes. The CAA reports the attachment lug spacers are incorrectly sized and cause the lugs to distort when the attachment bolt is tightened. Also, outer wing attachment lugs were used to secure the spar in the wing build jig without spacers. This may have bent the clevis legs outward. These two problems may cause cracking and/or degradation of fatigue life.

What is the potential impact if FAA took no action? Cracked, bent, or distorted condition of the left and right outer panel attachment lugs; and incorrect spacing of the left and right outer panel attachment lugs could result in structural failure. This failure could lead to loss of control of the airplane.

Is there service information that applies to this subject? Pacific Aerospace Corporation Ltd. has issued Mandatory Service Bulletin PACSB/XL/015, Issue 3, amended April 8, 2005.

What are the provisions of this service information? The service bulletin includes procedures for:

—Inspecting both the right and left paired center wing lugs for scoring or gouging of mating faces, and replacing the lugs if scoring or gouging is found;

—Inspecting both the right and left single outer wing lugs for scoring or gouging, and replacing the lugs if scoring or gouging is found;

—Inspecting both the right and left paired and single outer wing lugs for cracking, and replacing the lugs if cracking is found; and

—Inspecting both the right and left paired center wing lugs for parallel spacing, and correcting the spacing if not parallel within 0.010 inches.

What action did the CAA of New Zealand take? The CAA classified this service bulletin as mandatory and issued New Zealand AD Number DCA/750XL/5, dated April 28, 2005, to ensure the continued airworthiness of these airplanes in New Zealand.

Did the CAA of New Zealand inform the United States under the bilateral airworthiness agreement? These Pacific Aerospace Corporation Ltd Model 750XL airplanes are manufactured in New Zealand and are type-certificated for operation in the United States under the provisions of section 21.29 of the Federal Aviation Regulations (14 CFR 21.29) and the applicable bilateral airworthiness agreement.

Under this bilateral airworthiness agreement, the CAA of New Zealand has kept us informed of the situation described above.

FAA's Determination and Requirements of This Proposed AD

What has FAA decided? We have examined the CAA's findings, reviewed all available information, and determined that AD action is necessary for products of this type design that are certificated for operation in the United States.

Since the unsafe condition described previously is likely to exist or develop on other Pacific Aerospace Corporation Ltd Model 750XL airplanes of the same type design that are registered in the United States, we are proposing AD action to prevent structural failure of the outer panel and spar due to cracked, bent, or distorted condition of the left and right outer panel attachment lugs; and incorrect spacing of the left and right outer panel attachment lugs. This failure could lead to loss of control of the airplane.

What would this proposed AD require? This proposed AD would require you to inspect the condition and spacing of the left and right outer panel attachment lugs; replace the lugs if damage is found; and make any necessary corrections to the spacing.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 4 airplanes in the U.S. registry.

What would be the cost impact of this proposed AD on owners/operators of the affected airplanes? We estimate the following costs to do this proposed inspection:

Labor cost | Total cost per airplane | Total cost on U.S. operators
6 workhours × $65 = $390 | $390 | $1,560

We estimate the following costs to do any necessary replacements that would be required based on the results of this proposed inspection. We have no way of determining the number of airplanes that may need this replacement:

Labor cost | Parts cost | Total cost per airplane
16 workhours × $65 = $1,040 | Pacific Aerospace Corporation Ltd. will provide warranty credit for replacement cost | $1,040

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21935; Directorate Identifier 2005-CE-37-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pacific Aerospace Corporation Ltd.: Docket No. FAA-2005-21935; Directorate Identifier 2005-CE-37-AD.

When Is the Last Date I Can Submit Comments on This Proposed AD?

(a) We must receive comments on this proposed airworthiness directive (AD) by October 5, 2005.

What Other ADs Are Affected By This Action?

(b) None.

What Airplanes Are Affected By This AD?

(c) This AD affects Model 750XL, serial numbers 101 through 115, that are certificated in any category.

What Is the Unsafe Condition Presented in This AD?

(d) This AD is the result of incorrect sizing of the attachment lug spacers causing the lugs to distort when the attachment bolt is tightened. Also, outer wing attachment lugs were used to secure the spar in the wing build jig without spacers. This may have bent the clevis legs outward. These two problems may cause cracking and/or degradation of fatigue life. The actions specified in this AD are intended to prevent structural failure of the outer panel and spar due to cracked, bent, or distorted condition of the left and right outer panel attachment lugs; and incorrect spacing of the left and right outer panel attachment lugs. This failure could lead to loss of control of the airplane.

What Must I Do To Address This Problem?

(e) To address this problem, you must do the following:

Actions | Compliance | Procedures
(1) Inspect the left and right outer panel, paired center wing lugs, and the outer panel single lugs for damage (scoring or gouging) | Upon accumulating 300 hours time-in-service (TIS) or within 50 hours TIS after the effective date of this AD, whichever occurs later | Follow Pacific Aerospace Corporation Ltd. Mandatory Service Bulletin PACSB/XL/015, Issue 3, amended April 8, 2005.
(2) Inspect the left and right outer panel, paired center wing lugs, and the outer panel single lugs for cracks. You must use a fluorescent penetrant inspection procedure instead of the dye penetrant inspection procedure stated in the service information | Upon accumulating 300 hours TIS or within 50 hours TIS after the effective date of this AD, whichever occurs later | Pacific Aerospace Corporation Ltd. Mandatory Service Bulletin PACSB/XL/015, Issue 3, amended April 8, 2005.
(3) If any damage and/or cracks are found during the inspections required in paragraph (e)(1) and (e)(2) of this AD, you must replace the lugs | Prior to further flight, after any inspection where damage and/or cracks are found | Pacific Aerospace Corporation Ltd. Mandatory Service Bulletin PACSB/XL/015, Issue 3, amended April 8, 2005.
(4) Inspect the left and right wing paired lugs for parallel spacing within 0.010 inches. If the paired lugs are not parallel within 0.010 inches, reshim outer wing attachment points and correct spacing | Inspect upon accumulating 300 hours TIS or within 50 hours TIS after the effective date of this AD, whichever occurs later. Correct spacing and reshim prior to further flight after the inspection | Pacific Aerospace Corporation Ltd. Mandatory Service Bulletin PACSB/XL/015, Issue 3, amended April 8, 2005.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, FAA, Small Airplane Directorate, 901 Locust, Room 301, Kansas City, Missouri 64106; telephone: (816) 329-4146; facsimile: (816) 329-4090.

Is There Other Information That Relates to This Subject?

(g) CAA Airworthiness Directive DCA/750XL/5, dated April 28, 2005; and Pacific Aerospace Corporation Ltd. Mandatory Service Bulletin PACSB/XL/015, Issue 3, amended April 8, 2005 also address the subject of this AD.

May I Get Copies of the Documents Referenced in This AD?

(h) To get copies of the documents referenced in this AD, contact Pacific Aerospace Corporation Ltd., Hamilton Airport, Private Bag HN 3027, Hamilton, New Zealand; telephone: (64) 7-843-6144; facsimile: (64) 7-843-6134. To view the AD docket, go to the Docket Management Facility; U.S. Department of Transportation, 400 Seventh Street, SW., Nassif Building, Room PL-401, Washington, DC, or on the Internet at http://dms.dot.gov. This is docket number FAA-2005-21935; Directorate Identifier 2005-CE-37-AD.

Issued in Kansas City, Missouri, on August 15, 2005.
Terry L. Chasteen,
Acting Manager, Small Airplane Directorate, Aircraft Certification Service.

[FR Doc. 05-16442 Filed 8-18-05; 8:45 am]

BILLING CODE 4910-13-P